DEPARTMENT OF THE INTERIOR

National Park Service

[NPS-WASO-NRNHL-DTS#-0037735; PPWOCRADI0, PCU00RP14.R50000]

National Register of Historic Places; Notification of Pending Nominations and Related Actions

AGENCY: National Park Service, Interior.

ACTION: Notice.

SUMMARY: The National Park Service is soliciting electronic comments on the significance of properties nominated before March 30, 2024, for listing or related actions in the National Register of Historic Places.

DATES: Comments should be submitted electronically by April 23, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 30, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

ARIZONA

Pima County

St. Michael and All Angels Episcopal Church, 602 N. Wilmot Road, Tucson, SG100010265

NEW YORK

Albany County

Graceland Cemetery Receiving Vault, 680 Delaware Avenue, Albany, SG100010274

Delaware County

North Harpersfield Churches, 4289 and 4298 County Road 29, Jefferson, SG100010271

Dutchess County

Wallace Company Department Store, 331 Main Street, Poughkeepsie, SG100010269

Monroe County

Building at 216-222 South Avenue, 216-222 South Avenue, Rochester, SG100010273

New York County

Building at 821 Broadway, 821 Broadway, New York, SG100010272

Niagara County

Tatler Club, 6 Fourth Street, Niagara Falls, SG100010270

Rensselaer County

Miller, Hall & Hartwell Shirt Collar Factory, (Textile Factory Buildings in Troy, New York, 1880-1920 MPS), 547 and 558 River Street, Troy, MP100010268

Empire Stove Works, 285 Second Street, Troy, SG100010275

St. Lawrence County

St. Lawrence County Government Complex, 48 Court Street, Canton, SG100010267

Ulster County

St. Joseph's Parish Complex, Roughly bounded by Wall Street, Main Street, and Pearl Street, Kingston, SG100010266

OKLAHOMA

Creek County

St. George Episcopal Church, 148 West 7th Street, Bristow, SG100010278

PENNSYLVANIA

Luzerne County

Bell Telephone Company of Pennsylvania—Wilkes-Barre Central Office, 33 E. Northampton Street, Wilkes-Barre, SG100010258

TENNESSEE

Franklin County

Townsend School, 913 S. Shepherd Street, Winchester, SG100010260

TEXAS

Tarrant County

W.I. Cook Memorial Hospital, 1212 West Lancaster Avenue, Fort Worth, SG100010262

UTAH

Utah County

Kit Carson Cross, Address Restricted, Hooper, SG100010261

Additional documentation has been received for the following resource(s):

ARIZONA

Pima County

Winterhaven Historic District (Additional Documentation), 3335 North Christmas Avenue, Tucson, AD05001466

Broadmoor Historic District (Additional Documentation), 433 S. Stratford Dr., Tucson, AD100006151

Authority: Section 60.13 of 36 CFR part 60.

Sherry A. Frear,
Chief, National Register of Historic Places/National Historic Landmarks Program.

[FR Doc. 2024-07380 Filed 4-5-24; 8:45 am]

BILLING CODE 4312-52-P